SMALL BUSINESS ADMINISTRATION

[Disaster Declaration #11291]

Oklahoma Disaster #OK-00021

AGENCY: U.S. Small Business Administration.

ACTION: Notice.

SUMMARY: This is a Notice of the Presidential declaration of a major disaster for Public Assistance Only for the State of Oklahoma (FEMA-1752-DR), dated 05/05/2008.

Incident: Severe Storms, Tornadoes, and Flooding.

Incident Period: 03/17/2008 through 03/23/2008.

EFFECTIVE DATE: 05/05/2008.

Physical Loan Application Deadline Date: 07/07/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 05/05/2008, Private Non-Profit organizations that provide essential services of a governmental nature may file disaster loan applications at the address listed above or other locally announced locations.

The following areas have been determined to be adversely affected by the disaster:

Primary Counties:

Adair, Haskell, Hughes, Latimer, Le Flore, Mayes, Mccurtain, Mcintosh, Muskogee, Okfuskee, Okmulgee, Pittsburg, Pushmataha, Sequoyah.

The Interest Rates are:

| Percent
Other (Including Non-Profit Organizations) With Credit Available Elsewhere | 5.250
Businesses And Non-Profit Organizations Without Credit Available Elsewhere | 4.000

The number assigned to this disaster for physical damage is 11291.

(Catalog of Federal Domestic Assistance Number 59008)

James E. Rivera.
Acting Associate Administrator for Disaster Assistance.

[FR Doc. E8-14091 Filed 6-20-08; 8:45 am]

BILLING CODE 8025-01-P